DEPARTMENT OF LABOR

Mine Safety and Health Administration

[OMB Control No. 1219-0039]

Proposed Extension of Information Collection: Gamma Radiation Surveys

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled Gamma Radiation Surveys.

DATES: All comments must be received on or before July 28, 2025.

ADDRESSES: Comments concerning the information collection requirements of this notice may be sent by any of the methods listed below. Please note that comments received after the deadline will not be considered.

• Federal E-Rulemaking Portal: https://www.regulations.gov. Follow the on-line instructions for submitting comments for docket number MSHA-2025-0014.

• Mail/Hand Delivery: DOL-MSHA, Office of Standards, Regulations, and Variances, 200 Constitution Avenue NW, Room C3522, Washington, DC 20210. Before visiting MSHA in person, call 202-693-9455 to make an appointment.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act) as amended, 30 U.S.C. 813(h), authorizes the Mine Safety and Health Administration (MSHA) to collect information necessary to carry out its duty in protecting the safety and health of miners. Further, section 101(a) of the Mine Act, 30 U.S.C. 811(a), authorizes the Secretary of Labor to develop, promulgate, and revise as may be appropriate, improved mandatory health or safety standards for the protection of life and prevention of injuries in coal, metal, and nonmetal mines.

The Paperwork Reduction Act (PRA) governs paperwork burdens imposed by Federal agencies on the public for using identical questions to collect information from 10 or more persons. Paperwork burden is defined in 44 U.S.C. 3502(2) as time, effort, or financial resources expended to generate, maintain, or provide information to or for a Federal agency. Under 44 U.S.C. 3507, policies and procedures of information collection are established for controlling paperwork burdens imposed by Federal agencies on the public, including evaluating public comments.

B. Information Collection

To fulfill the statutory mandates to promote miners' health and safety, MSHA requires information under the information collection request (ICR) titled “Gamma Radiation Surveys.” The information collection is intended to ensure that mine operators monitor and maintain records of employee exposures to gamma rays so to minimize the negative health effects on miners.

Gamma radiation occurs where radioactive materials are present. Natural sources of gamma radiation include uranium and other radioactive elements that can be found in rocks, soils, and ground water. Gamma radiation may also be found near equipment with radiation sources in surface and underground mine operations where gamma rays are used to measure the level and density of liquids, slurries, or solids. The equipment includes X-ray machines, weightometers, nuclear gauges, and diffraction units that are mounted outside tanks, pipes, bins, hoppers, or other types of vessels, and contain radioactive materials.

The adverse health effects from exposure to gamma radiation vary depending upon the energy level of the radiation, the cumulative length of exposure, and the type of cell affected. Gamma rays penetrate the body and can cause cell death or damage in their path which can affect many of the body's organs. If a radioactive element is inhaled or ingested, gamma radiation can also be emitted and absorbed internally. As a result, gamma radiation can cause many types of cancer.

Burden costs associated with the ICR include:

1. conducting annual gamma radiation surveys; and

2. recording cumulative individual gamma radiation exposure.

Authorization and the associated rule text are described below.

1. Conducting Gamma Radiation Surveys

Under section 103(c) of the Mine Act, 30 U.S.C. 813(c), MSHA is required to issue regulations requiring operators to maintain accurate records of employee exposures to potentially toxic materials or harmful physical agents which are required to be monitored or measured under any applicable mandatory health or safety standard promulgated under the Act.

Under 30 CFR 57.5047(a), mine operators are required to conduct gamma radiation surveys annually in all underground mines where radioactive ores are mined. Under 30 CFR 57.5047(b), surveys must be conducted in accordance with American National Standards Institute (ANSI) Standard N13.8-1973, titled “Radiation Protection in Uranium Mines”, which is incorporated by reference.

2. Recording Cumulative Gamma Radiation Exposure

Under 30 CFR 57.5047(c), where average gamma radiation measurements are in excess of 2.0 milliroentgens per hour in the working place, gamma radiation dosimeters must be provided for all persons affected, and records of cumulative individual gamma radiation exposure must be kept. Under 30 CFR 57.5047(d), an annual individual gamma radiation exposure cannot exceed 5 rems.

II. Desired Focus of Comments

MSHA is soliciting comments concerning the proposed information collection related to Gamma Radiation Surveys. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9455 to make an appointment.

Questions about the information collection requirements may be directed to the person listed in the FOR FURTHER INFORMATION CONTACT section of this notice.

III. Current Actions

This information collection request concerns provisions for Gamma Radiation Surveys. MSHA has updated the data with respect to the number of respondents, responses, time burden, and burden costs supporting this information collection request from the previous information collection request.

Type of Review: Extension, without change, of a currently approved collection.

Agency: Mine Safety and Health Administration.

OMB Number: 1219-0039.

Affected Public: Business or other for-profit.

Number of Annual Respondents: 4.

Frequency: On occasion.

Number of Annual Responses: 4.

Annual Time Burden: 8 hours.

Annual Other Burden Costs: $0.

Comments submitted in response to this notice will be summarized and included in the request for Office of Management and Budget approval of the proposed information collection request; they will become a matter of public record and be available at https://www.reginfo.gov.

Song-ae Aromie Noe,
Certifying Officer, Mine Safety and Health Administration.

[FR Doc. 2025-09593 Filed 5-28-25; 8:45 am]

BILLING CODE 4510-43-P